DEPARTMENT OF THE INTERIOR

National Park Service

[NPS-NER-FIIS-17935; PPNEFIIS00-PMP00UP05.YP0000]

Draft General Management Plan/Environmental Impact Statement, Fire Island National Seashore, New York

AGENCY: National Park Service, Interior.

ACTION: Notice of availability.

SUMMARY: The National Park Service (NPS) announces the availability of a Draft General Management Plan/Environmental Impact Statement (Draft GMP/EIS) for Fire Island National Seashore, New York. The Draft GMP/EIS includes a draft Wilderness Stewardship Plan for the Otis Pike High Dunes Fire Island Wilderness.

DATES: The NPS will accept comments on the Draft GMP/EIS for a period of 90 days following publication of the Environmental Protection Agency's Notice of Availability in the Federal Register. The National Park Service will hold public meetings during the public review period to solicit comments. Meeting dates, times and locations will be announced in local media in advance of the meeting dates.

ADDRESSES: The Draft GMP/EIS will be available for public review and comment online at http://parkplanning.nps.gov/fiis, and in hardcopy at the office of the Superintendent, Fire Island National Seashore, 120 Laurel Street, Patchogue, New York 11772, (631) 687-4750. Copies may also be viewed at area public libraries including the Woodhull School on Fire Island and at Babylon, Bayport/Blue Point, Bay Shore/Brightwaters, Brentwood, Brookhaven, East Islip, Mastic/Moriches/Shirley, Patchogue, Sayville, South Country (Bellport), and West Islip on Long Island. Comments may be submitted electronically at http://parkplanning.nps.gov/fiis. You may also mail written comments to: Fire Island National Seashore GMP, 15 State Street, Boston, MA 02109, Attn: Ellen Carlson.

Before including your address, phone number, email address, or other personal identifying information in your comment, you should be aware that your entire comment—including your personal identifying information—might be made publicly available at any time. While you can ask us in your comment to withhold your personal identifying information from public review, we cannot guarantee that we will be able to do so.

SUPPLEMENTARY INFORMATION: The focus of the GMP is to develop and select management strategies for Fire Island National Seashore for the next 15 to 20 years to support the protection of important natural resources and processes; significant recreation resources; cultural resources of national, state, and local significance; and residential communities.

The park is composed of two distinct units—the barrier island that runs parallel to the south shore of Long Island and the 613-acre William Floyd Estate situated on the south shore of Long Island near the east end of Fire Island. To address the specific needs of these two distinct units, the Draft GMP/EIS includes two sets of alternatives. One addresses park-wide alternatives for Fire Island National Seashore with a primary emphasis on the barrier island and includes a no-action alternative and two action alternatives. The other set of alternatives focuses specifically on the William Floyd Estate and includes a no-action and a single action alternative. The Draft GMP/EIS also incorporates plans for the Otis Pike High Dunes Fire Island Wilderness and includes a draft Wilderness Stewardship Plan for public review concurrent with the Draft GMP/EIS.

FOR FURTHER INFORMATION CONTACT: Ellen Carlson, NPS/Northeast Region, 15 State Street, Boston, MA 02019. Phone: (617) 223-5048. Email: Fire_Island_GMP@nps.gov.

Dated: June 1, 2015.
Michael A. Caldwell,
Regional Director, Northeast Region, National Park Service.

[FR Doc. 2015-14927 Filed 6-16-15; 8:45 am]

BILLING CODE 4310-WV-P